OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Mrs. Quasette Crowner, Chief, Executive Resources Group, Center for Leadership and Executive Resources Policy, Division for Strategic Human Resources Policy, (202) 606-1579.

SUPPLEMENTARY INFORMATION: Appearing in the listing below are the individual authorities established under Schedule C between December 1, 2004, and December 31, 2004. Future notices will be published on the fourth Tuesday of each month, or as soon as possible thereafter. A consolidated listing of all authorities as of June 30 is published each year.

Schedule A

No Schedule A's for December 2004.

Schedule B

No Schedule B's for December 2004.

Schedule C

The following Schedule C appointments were approved for December 2004:

Section 213.3303 Executive Office of the President

Office of Management and Budget

BOGS60026 Confidential Assistant to the Associate Director for General Government Programs. Effective December 21, 2004.

BOGS60141 Deputy to the Associate Director for Legislative Affairs (Senate). Effective December 29, 2004.

Section 213.3304 Department of State

DSGS60803 Public Affairs Specialist to the Office Director, Office to Monitor and Combat Trafficking In Persons. Effective December 10, 2004.

DSGS60804 Staff Assistant to the Deputy Assistant Secretary for Equal Employment Opportunity. Effective December 16, 2004.

Section 213.3305 Department of the Treasury

DYGS60317 Public Affairs Specialist to the Director, Public Affairs. Effective December 17, 2004.

Section 213.3306 Department of Defense

DDGS16837 Defense Fellow to the Special Assistant to the Secretary of Defense for White House Liaison. Effective December 8, 2004.

DDGS16849 Program Support Specialist to the Deputy Assistant Secretary of Defense (Internal Communications). Effective December 14, 2004.

DDGS16851 Personal and Confidential Assistant to the Under Secretary of Defense (Comptroller). Effective December 29, 2004.

Section 213.3308 Department of the Navy

DNGS60069 Staff Assistant to the Under Secretary of the Navy. Effective December 8, 2004.

Section 213.3310 Department of Justice

DJGS00444 Associate Director to the Director, Office of Intergovernmental and Public Liaison. Effective December 10, 2004.

DJGS00208 Confidential Assistant to the Director, Office of Public Affairs. Effective December 21, 2004.

Section 213.3311 Department of Homeland Security

DMGS00285 Policy Analyst to the Special Assistant to the Secretary (Private Sector). Effective December 2, 2004.

DMGS00286 Staff Assistant to the Officer of Civil Rights and Civil Liberties. Effective December 3, 2004.

DMGS00279 Briefing Coordinator to the Executive Secretary. Effective December 7, 2004.

DMGS00282 Writer-Editor to the Executive Secretary. Effective December 7, 2004.

DMOT00224 Director of Legislative Affairs for Transportation Security Administration to the Administrator, Transportation Security Administration. Effective December 7, 2004.

DMGS00289 Program Analyst to the Special Assistant to the Secretary (Private Sector). Effective December 21, 2004.

DMGS00292 Legislative Assistant to the Assistant Secretary for Legislative Affairs. Effective December 30, 2004.

Section 213.3312 Department of the Interior

DIGS61026 Deputy Director, External and Intergovernmental Affairs to the Director, External and Intergovernmental Affairs. Effective December 28, 2004.

DIGS61027 Special Assistant to the Associate Deputy Secretary. Effective December 28, 2004.

Section 213.3314 Department of Commerce

DCGS00160 Confidential Assistant to the Assistant Secretary and Director General of United States Commercial Services. Effective December 2, 2004.

DCGS00465 Confidential Assistant to the Director, Office of White House Liaison. Effective December 10, 2004.

Section 213.3315 Department of Labor

DLGS60273 Special Assistant to the Assistant Secretary for Administration and Management. Effective December 21, 2004.

Section 213.3316 Department of Health and Human Services

DHGS00011 Special Assistant to the Assistant Secretary for Legislation. Effective December 17, 2004.

Section 213.3325 United States Tax Court

JCGS60048 Secretary (Confidential Assistant) to the Chief Judge. Effective December 3, 2004.

Section 213.3332 Small Business Administration

SBGS00540 Director of Small Business Administration's Center for Faith-Based and Community Initiatives to the Chief of Staff and Chief Operating Officer. Effective December 10, 2004.

Section 213.3384 Department of Housing and Urban Development

DUGS60543 Staff Assistant to the Assistant Secretary for Administration/Chief Information Officer/Chief Human Capital Officer. Effective December 21, 2004.

Section 213.3393 Pension Benefit Guaranty Corporation

BGSL00039 Executive Director to the Chairman. Effective December 17, 2004.

Section 213.3394 Department of Transportation

DTGS60288 Associate Director for Governmental Affairs to the Assistant Secretary for Governmental Affairs. Effective December 9, 2004.

Authority: 5 U.S.C. 3301 and 3302; E.O. 10577, 3 CFR 1954-1958 Comp., P. 218.

Office of Personnel Management.
Kay Coles James,
Director.

[FR Doc. 05-1456 Filed 1-26-05; 8:45 am]

BILLING CODE 6325-39-P